DEFENSE NUCLEAR FACILITIES SAFETY BOARD

10 CFR Part 1710

[Docket No. DNFSB-2023-02]

RIN 3155-AA02

Federal Employee Salary Offset Procedures for the Collection of a Debt Owed to the Federal Government

AGENCY: Defense Nuclear Facilities Safety Board.

ACTION: Final rule.

SUMMARY: This final rule adopts, without change, an interim final rule with a request for comments published in the Federal Register on September 19, 2023. The interim final rule created regulations governing the collection of debts owed to the Defense Nuclear Facilities Safety Board (DNFSB) and to the United States by Federal employees.

DATES: Effective November 22, 2023.

FOR FURTHER INFORMATION CONTACT: Patricia A. Hargrave, Associate General Counsel, Defense Nuclear Facilities Safety Board, 625 Indiana Avenue NW, Suite 700, Washington, DC 20004-2901, (202) 694-7000.

SUPPLEMENTARY INFORMATION: On September 19, 2023, (88 FR 64353), the Board published an interim final rule with a request for comments. This rule, which became effective October 19, 2023, implemented the debt collection procedures provided under section 5 of the Debt Collection Act (DCA), as amended, codified at 5 U.S.C. 5514. The DCA authorizes the Federal Government to collect debts by offset from the salaries of Federal employees without the employee's consent, provided that the employee is properly notified and given the opportunity to exercise certain administrative rights.

The Board determined that the regulations were interpretative because they merely implemented a definitive statutory scheme and the requirements contained in regulations promulgated by OPM, codified in 5 CFR part 550, subpart K. Accordingly, no notice of proposed rulemaking was required pursuant to 5 U.S.C. 553(b)(A). In addition, because this rule related to agency management and personnel, no notice of proposed rulemaking was required pursuant to 5 U.S.C. 553(a)(2). The Board, however, noted that it would consider any public comments, but no comments were received. This is confirmation that the interim rule published September 19, 2023, at 88 FR 64353, is adopted as final without change.

Dated: November 13, 2023.
Joyce Connery,
Chair.

[FR Doc. 2023-25536 Filed 11-21-23; 8:45 am]

BILLING CODE 3670-01-P